FEDERAL COMMUNICATIONS COMMISSION

47 CFR Part 52

[WC Docket No. 18-336; FCC 24-111; FR ID 260903]

Implementation of the National Suicide Hotline Act of 2018

AGENCY: Federal Communications Commission.

ACTION: Proposed rule.

SUMMARY: In this document, the Federal Communications Commission (Commission) proposes and seeks comment on requiring covered text providers, including wireless providers, to support georouting to ensure that the 988 Suicide & Crisis Lifeline (988 Lifeline or Lifeline) may route covered 988 text messages to appropriate local crisis centers. Covered 988 text messages are currently routed to crisis centers using information conveyed by the number assigned to a help-seeker's device, such as an area code, which may not match the text user's physical location. To better connect 988 text users with critical local intervention services, the Commission proposes to require covered text providers to send georouting data to the 988 Lifeline to the same extent that they are required to send covered 988 text messages to the Lifeline.

DATES: Comments are due on or before December 20, 2024, and reply comments are due on or before January 9, 2025.

ADDRESSES: You may submit comments, identified by WC Docket No. 18-336, by any of the following methods:

Federal Communications Commission's Website: http://apps.fcc.gov/ecfs/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Merry Wulff, Attorney Advisor, Competition Policy Division, Wireline Competition Bureau, at Merry.Wulff@fcc.gov or at (202) 418-1084. For additional information concerning the Paperwork Reduction Act proposed information collection requirements contained in this document, send an email to PRA@fcc.gov or contact Nicole Ongele, Nicole.Ongele@fcc.gov.

SUPPLEMENTARY INFORMATION: This is a summary of the Commission's Third Further Notice of Proposed Rulemaking (FNPRM) in WC Docket No. 18-336, FCC 24-111, adopted October 17, 2024, and released October 18, 2024. The full text of this document is available for public inspection at the following internet address: https://docs.fcc.gov/public/attachments/FCC-24-111A1.pdf.

Paperwork Reduction Act

The FNPRM may contain proposed new and revised information collection requirements. The Commission, as part of its continuing effort to reduce paperwork burdens, invites the general public and Office of Management and Budget (OMB) to comment on the information collection requirements contained in this document, as required by the Paperwork Reduction Act of 1995 (Pub. L. 104-13). In addition, pursuant to the Small Business Paperwork Relief Act of 2002 (Pub. L. 107-198) see 44 U.S.C. 3506(c)(4), we seek specific comment on how we might further reduce the information collection burden for small business concerns with fewer than 25 employees.

Comment Filing Procedures

Pursuant to §§ 1.415 and 1.419 of the Commission's rules, 47 CFR 1.415, 1.419, interested parties may file comments and reply comments on or before the dates indicated on the first page of this document. Comments may be filed using the Commission's Electronic Comment Filing System (ECFS).

• Electronic Filers: Comments may be filed electronically using the internet by accessing the ECFS: https://www.fcc.gov/ecfs/.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

People with Disabilities: To request materials in accessible formats for people with disabilities (braille, large print, electronic files, audio format), send an email to fcc504@fcc.gov or call the Consumer & Governmental Affairs Bureau at 202-418-0530 (voice), 202-418-0432 (TTY).

Confidentiality. Some information and materials requested by this FNPRM may be confidential and proprietary. Individuals and entities may request that confidential and proprietary information submitted to the Commission be withheld from public inspection consistent with § 0.459 of the Commission's rules.

Ex Parte Rules

This proceeding in this FNPRM shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act

The Providing Accountability Through Transparency Act (Pub. L. 118-9) requires each agency, in providing notice of a rulemaking, to post online a brief plain-language summary of the proposed rule. The required summary of this FNPRM is available at https://www.fcc.gov/proposed-rulemakings.

Regulatory Flexibility Act

The Regulatory Flexibility Act of 1980, as amended (RFA) requires that an agency prepare a regulatory flexibility analysis for notice and comment rulemakings, unless the agency certifies that “the rule will not, if promulgated, have a significant economic impact on a substantial number of small entities.” Accordingly, the Commission has prepared an Initial Regulatory Flexibility Analysis (IRFA) concerning the possible impact of the potential rule and policy changes contained in the FNPRM. The Commission invites the general public, particularly small businesses, to comment on the IRFA. Comments must be filed by the deadlines for comments on the FNPRM indicated on the first page of this document and must have a separate and distinct heading designating them as responses to the IRFA and must be filed in WC Docket No. 18-336.

Synopsis

Third Further Notice of Proposed Rulemaking

1. Texting is an important mode of communication to the 988 Lifeline and is the preferred means of communicating among certain demographic groups, many of whom are at increased risk for mental health crises. In this FNPRM, we propose to require that covered text providers support georouting to ensure that the 988 Lifeline may route covered 988 text messages to the appropriate local crisis center to enhance the support and resources available to text users in crisis. We also tentatively conclude that, at a minimum, Commercial Mobile Radio Service providers must support georouting for Short Message Service (SMS) text messages to 988. In addition, we propose that covered text providers be subject to requirements to send georouting data to the 988 Lifeline to the same extent that they are currently required to send covered 988 texts to the 988 Lifeline. These proposed requirements will build on the implementation of georouting for wireless 988 voice calls and ensure parity between texts and voice calls to 988.

Background

2. In 2021, the Commission adopted requirements for covered text providers to route covered 988 text messages to the 988 Lifeline. The Commission defined “covered text provider” as including “all CMRS providers as well as all providers of interconnected text messaging services that enable consumers to send text messages to and receive text messages from all or substantially all text-capable U.S. telephone numbers, including through the use of applications downloaded or otherwise installed on mobile phones.” The Commission's goal in the 2021 Text-to-988 Second Report and Order, 87 FR 398 (Jan. 5, 2022), was to make text-to-988 rapidly available nationwide to improve access to mental health resources, while balancing the need for covered text providers to flexibly choose the most effective method of compliance. The Commission defined “covered 988 text message” as “a 988 text message in SMS format and any other format that the Wireline Competition Bureau has determined must be supported by covered text providers.” Currently, the Commission requires covered text providers to route covered 988 texts to the 988 Lifeline, but it does not require covered text providers to provide any additional information about the location of the text user. Under the rules adopted in the Third Report and Order (FCC 24-111), published elsewhere in this issue of the Federal Register, texts to 988 must be delivered to the national suicide prevention and mental health crisis hotline system maintained by the Assistant Secretary for Mental Health and the Secretary of Veterans Affairs. In the Implementation of the National Suicide Hotline Act of 2018, Second Further Notice of Proposed Rulemaking, 89 FR 46340 (May 29, 2024), we sought comment on improving routing for 988 text messages.

3. The Commission's definition of “988 text message” sets the possible scope of text formats which covered text providers may be obligated to support for the delivery of 988. “Covered 988 text messages” are a subset of 988 text messages that are in SMS format or any other format that the Wireline Competition Bureau has determined must be supported by covered text providers. The Commission delegated to the Wireline Competition Bureau the authority to make future determinations to require covered text providers to support additional text formats in consultation with Federal partners and in consideration of what text formats the 988 Lifeline is capable of receiving. The Wireline Competition Bureau annually consults with the U.S. Department of Health and Human Services' (HHS) Substance Abuse and Mental Health Services Administration (SAMHSA) on the implementation of any new texting formats to 988 and issues a Public Notice either announcing that no new texting formats are required or seeking comment on implementation parameters for covered text providers to transmit any additional text message formats to 988. The Wireline Competition Bureau then may, under delegated authority, release a Public Notice requiring covered text providers to implement text-to-988 for these additional text message formats and setting implementation dates. As part of its annual consultation with SAMHSA, the Wireline Competition Bureau has only applied text-to-988 requirements to the text formats that the 988 Lifeline currently supports. At present, the Wireline Competition Bureau only requires covered text providers to route 988 text messages in SMS format.

Applicability of Georouting Proposed Rules to 988 Covered Text Providers

4. In this FNPRM, we propose to require that covered text providers implement the capability to provide georouting data with covered 988 text messages to the Lifeline Administrator and provide georouting data with covered 988 text messages to the Lifeline Administrator. We propose that the scope of this requirement be consistent with the scope of the existing requirement for covered text providers to deliver covered 988 text messages to the 988 Lifeline. As with the delivery requirement for covered 988 text messages, we also propose to limit the application of text-to-988 georouting requirements to the text formats that the 988 Lifeline supports. Given that the 988 Lifeline currently only accepts SMS text messages, this proposal would require covered text providers to implement georouting only for SMS text messages as an initial matter. Should the 988 Lifeline begin to accept other text formats in the future, we anticipate that there would be a similar need for georouting data for such additional text formats. Under our proposed approach, we would direct the Wireline Competition Bureau to consult with SAMHSA as to whether the 988 Lifeline can accept georouting data with any newly identified text formats as part of its annual consultation process and to seek comment on applying georouting requirements to any newly identified text formats in its annual Public Notice. We also propose to delegate authority to the Wireline Competition Bureau to require covered text providers to implement georouting for any new text formats and to set an implementation date that is as prompt as is reasonably practical. This flexible approach would allow the Commission to evaluate on an ongoing basis whether to apply georouting requirements to any new formats that the 988 Lifeline may become capable of receiving in the future.

5. Further, we tentatively conclude that at a minimum CMRS providers must support georouting for SMS text messages to 988. The record indicates that requiring CMRS providers to implement georouting for covered 988 text messages will support the 988 Lifeline's mission and save lives. In addition, we believe it is likely that CMRS providers originate a substantial majority of texts currently received by the 988 Lifeline. Georouting for SMS text messages originated by CMRS providers would represent a substantial improvement in the percentage of covered 988 texts arriving at the 988 Lifeline with georouting data. As discussed in the analysis of benefits and costs section, the benefits of implementing georouting for covered 988 text messages appear to significantly outweigh the anticipated costs to CMRS providers. These benefits include improved support for certain populations with an increased risk of suicide. The record also suggests that it is technically feasible for CMRS providers to provide georouting data with texts to 988. The ongoing use of coarse location routing for texts to 911 strongly suggests that CMRS providers have such location information available for routing SMS text messages to 988. In the 911 context, covered text providers are required to route texts to 911 using coarse location (cell ID and cell sector) or other equivalent means that allows the covered text provider to route a texts to the appropriate PSAP.

6. We seek comment on this approach and on our tentative conclusion. Should we instead limit the scope of the georouting rule language to one or more specific text formats, such as SMS, or to certain types of covered text providers, such as CMRS providers or covered text providers that have access to cellular networks? What are the benefits and drawbacks of each regulatory approach, and the impact to individuals that text the 988 Lifeline?

Definitions

7. In the text-to-988 georouting rules, we propose to include definitions of the terms “commercial mobile radio service,” “georouting data,” and “Lifeline Administrator” that were adopted in the Third Report and Order (FCC 24-111), published elsewhere in this issue of the Federal Register. Additionally, we also propose to correct the text of § 52.201(b) of Commission's rules to read “Commercial Mobile Radio Service” instead of “Commercial Mobile Radio Services.” We seek comment on our proposal. Are there any other terms that we should define or revise as they relate to the proposed georouting rules for covered text providers? We seek specific comment on how the proposed definition of “georouting data” impacts the text-to-988 georouting rules that we propose in this FNPRM. The definition specifically applies to “location data generated from cell-based location technology.” For which covered text providers, and in which circumstances, would georouting data so defined be available? Should we adopt a definition of “georouting data” for the text-to-988 georouting rules that differs from the definition of this term for the georouting rules for voice calls to 988?

Text-to-988 Georouting Data

8. We propose to adopt and seek comment on a two-part requirement for covered text providers to: (1) have the capability to provide georouting data with covered 988 text messages to the Lifeline Administrator in a format compatible with the Lifeline's routing platform, to allow routing of the covered 988 text message by the Lifeline Administrator to the appropriate crisis center based on the geographic area where the handset is located at the time the covered 988 text is initiated; and (2) provide georouting data, when available, with covered 988 text messages to the Lifeline Administrator sufficient to allow routing of the covered 988 text message by the Lifeline Administrator to the appropriate crisis center based on the geographic area where the handset is located at the time the covered 988 text is initiated. Covered text providers would be required to comply with this requirement six months from the effective date of final rules. We seek comment on this proposal.

9. Several commenters support developing georouting capabilities for texts to the 988 Lifeline and indicate that parity for voice and text service to 988 is an important goal. Several commenters specifically support a georouting requirement for texts. Although some parties argue that a georouting solution for texts is not necessary at this time because most texts are handled at the national rather than local level, we note that SAMHSA is currently expanding local response to texts to 988. To the extent that texts to 988 are routed to local crisis centers as the result of SAMHSA's evolving service offering, we believe those texts should be routed as accurately as voice calls in order to provide the most responsive care to text users, and seek comment on this belief. Washington Department of Health states that a georouting solution for texts to 988 confers the same types of benefits as georouting for voice calls to 988. We seek comment on such benefits, and on any additional benefits specific to a georouting solution for texts to 988. Commenters emphasize that text messaging to the 988 Lifeline is a preferred communication method for certain groups, specifically young adults and LGBTQI+ individuals, as well as in certain situations in which greater privacy is needed or when cell reception is inadequate to complete a phone call. As a matter of equity, the benefits of georouting communications to 988 should extend to such groups and situations for which there is a preference or need to contact 988 via text messaging. Are there other specific communities or scenarios that would benefit from the implementation of georouting data for texts to 988? For example, does georouting for texts particularly benefit people who are deaf, deafblind, hard of hearing, speech disabled, or have other disabilities that impact communication?

10. Several telecommunications industry commenters and one national backup provider for 988 text and chat services urge the Commission to refrain from adopting regulations for georouting covered text messages to the 988 Lifeline. We specifically disagree with commenters who argue that existing routing mechanisms are adequate for purposes of the 988 Lifeline and seek comment on this position. Even if “the first six digits of the phone number of people reaching out to the Crisis Text Line are accurate to their state location approximately 86% of the time,” as reported by the Crisis Text Line, georouting texts to 988 based on cell location will ensure that an increased portion of users are quickly connected with local life-saving resources. We also believe that the benefits of georouting texts are not limited to instances in which the contact requires an emergency services intervention, as suggested by the Crisis Text Line. Instead, we consider that, as with voice, the benefits of georouting for text will extend to all text users connected to a local crisis center because such centers will be more familiar with the local area's resources, as well as possibly being more familiar with cultural issues or community stressors in the text user's area. While there are alternatives to automated georouting that can connect text users with local resources, the Commission remains committed to making it easier for those in crisis to get help. We seek comment on our analysis and this approach.

11. The capability to provide georouting data. We seek comment on our proposed rule that covered text providers must have the capability to provide georouting data with covered 988 text messages to the Lifeline Administrator in a format compatible with the Lifeline's routing platform. In particular, we seek comment on potential georouting solutions for texts to the 988 Lifeline and on any progress to identify and implement a georouting solution for texts to 988 and the steps to complete implementation. We propose this requirement in two parts, with a separate requirement for covered text providers to obtain the capability to provide georouting data, in order to ensure that covered text providers deploy this life-saving technology on their networks by the proposed deadline, regardless of the 988 traffic that a covered text provider has historically originated. Is a separate requirement for covered text providers to obtain the capability to provide georouting data needed, or should the only georouting requirement for covered text providers be the requirement to provide georouting data to the 988 Lifeline?

12. Commenters indicate that some progress has been made, including by CMRS providers, to identify a georouting solution for covered 988 texts, particularly for SMS. We are interested in hearing from CMRS providers and other involved parties on the details of such solutions and progress. We also seek information on any parties beyond the CMRS providers, other covered text providers, and the Lifeline Administrator and/or its vendors that would need to participate in a solution for georouting SMS texts that are currently sent to 988. For example, Intrado Life & Safety states that georouting to the 988 Lifeline is “easily achievable . . . by applying the current routing infrastructure for text-to-911 and changing to support the digits `988' in the Text Control Centers that Intrado Life & Safety and Comtech maintain for text-to-911.” We seek comment on the viability of this and any other solutions for providing georouting data to the 988 Lifeline with SMS texts, and the work that still needs to be done to timely deploy a solution on wireless networks. Consistent with our findings in the Third Report and Order, (FCC 24-111), published elsewhere in the Federal Register, at this time we do not seek comment on georouting solutions for 988 covered texts that would bypass the initial direct and centralized routing system of the 988 Lifeline. In what ways are any proposed solutions for providing georouting data with covered 988 texts similar to or different from the solutions proposed for providing georouting data with wireless calls to 988? Can the work done by CMRS providers either to implement georouting for 988 voice calls or to deploy text-to-911 be leveraged for text-to-988? Are such solutions cost-effective and technologically feasible for both nationwide and non-nationwide CMRS providers and any other impacted covered text providers? What is the time frame for a pilot or testing any solutions, and what would be the anticipated time frame for moving from testing to operational deployment? We also seek data, documents, and other information that provide details about the current status of any proposed georouting solutions for covered 988 texts.

13. In addition, we seek comment on what technical challenges may arise in providing georouting data with covered 988 text messages, and specifically what challenges would arise for CMRS providers and any other impacted covered text providers that originate SMS text messages to provide georouting data with SMS text messages to 988. Commenters disagree on the difficulty of implementing a georouting solution for texts to 988. Some commenters allude to technical challenges but fail to provide specific details as to the nature and scope of such challenges. We seek additional insights or comments on any such challenges.

14. We disagree with arguments that the Commission should not adopt georouting requirements for SMS text messages to 988 based on the same reasoning underlying our decision to defer consideration of 911 location-based routing requirements for SMS, namely, the absence of supporting standards and that not all local centers can receive texts. While we did consider such factors in the Location-Based Routing Order, 89 FR 18488 (Mar. 13, 2024), the record in that proceeding also indicated that implementing location-based routing for texts to 911 would require extensive retrofitting of legacy SMS networks. No similar record exists in this proceeding, and indeed, Intrado Life & Safety argues that implementing georouting for text-to-988 could be as simple as changes “to support the digits `988' in the Text Control Centers that Intrado Life & Safety and Comtech maintain for text-to-911” with no other provider-required changes for implementation. A Text Control Center (TCC) is a controlling functional element specified in a relevant standard for text-to-911. The TCC has the responsibility to “(1) convert various protocols and act as a gateway; (2) request location that may be used for routing; (3) request routing instructions; and (4) initiate a dialogue with the PSAP through the appropriate interworking function of the TCC. When the TCC receives an initial text message, it obtains location from the [location server]. It then uses that location to obtain routing instructions from the [routing server]. Then, the TCC converts the text message to an appropriate protocol and initiates a dialogue with the [Public Safety Answering Point] (via the emergency services network) through the appropriate interworking function of the TCC.” Even if there are no existing standards for the interface to transmit location information between the Short Message Service Center (SMSC) and the TCC for texts to 988, the TCC is likely able to retrieve the location of the text to 988 from the CMRS provider's Gateway Mobile Location Center (GMLC) using existing practices for texts to 911. A SMSC is a network element of a Commercial Mobile Service Provider network which distributes SMS messages. A GMLC is the point of interface between the GSM wireless network and the Emergency Services Network. The GMLC retrieves, forwards, stores and controls position data associated with wireless callers. We seek comment on this analysis. Further, 911 location-based routing and georouting for 988 use different granularity of data and different entities perform the routing function. 911 location-based routing uses precise data on the location of the device to route 911 calls to the appropriate destination, whereas georouting for 988 can be accomplished with less granular information, such as the Federal Information Processing Series (FIPS) code or wire center. For 911 calls and texts, covered text providers determine the destination for routing based on available location information; for 988 calls and texts, it remains the purview of the 988 Lifeline and its administrator to route 988 calls and texts based on location data provided by the provider. CTIA's argument that we should not extend georouting requirements to covered 988 text messages based on our actions in the 911 location-based routing proceeding are unpersuasive due to these technical differences between these routing methodologies and differences in the record thus far received. We seek comment on this analysis.

15. Providing georouting data. We seek comment on our proposed requirement for covered text providers to provide georouting data, when available, with covered 988 text messages to the Lifeline Administrator sufficient to allow routing of the covered 988 text message by the Lifeline Administrator to the appropriate crisis center based on the geographic area where the handset is located at the time the covered 988 text is initiated. As with voice calls, SAMHSA, the agency with oversight of the 988 Lifeline Administrator, must ultimately determine the routing data that it will deem acceptable and that it will require the 988 Lifeline to configure its systems to read. What georouting data should covered text providers be required to provide with covered 988 texts? Would georouting data for covered 988 texts differ from the data required for georouting voice calls to 988? In our proposed rule, we require that covered text providers provide georouting data with covered 988 texts “when available.” Is such a limitation necessary? Would it be preferable to require covered text providers to provide georouting data with texts to 988 “when technically feasible”? Given that the Commission currently only requires covered text providers to send SMS text messages to the 988 Lifeline, are there any situations in which georouting data for SMS texts would not be available, and if so, what are such situations? Are there situations in which CMRS providers in particular do not have access to geolocation data for SMS text messages to the 988 Lifeline, and how frequently do such situations occur? Are there certain types of covered text providers that originate SMS texts for which it is technologically infeasible to obtain georouting data, and if so, what are those types of providers? We invite commenters to provide additional data in the record on the number and/or percentage of covered 988 texts originated by CMRS providers and other covered text providers. Do covered text providers besides CMRS providers have access to geolocation data, defined in this proceeding as “cell-based”? Do they have access to other kinds of location data? If so, how is that location data generated and with what level of resolution?

16. What steps do the Lifeline Administrator and/or its vendors need to take to be ready to receive georouting data for texts? What specific functions would the Lifeline Administrator and/or its service providers need to perform to successfully route texts to geographically appropriate crisis centers, once received by the 988 Lifeline's centralized routing platform? How many crisis centers can currently accept texts to 988, and are there plans to expand availability of local text resources? How would the 988 Lifeline determine the availability of a local crisis center to accept texts? Would texts to 988 route to a backup crisis center if no local crisis center was available? As the availability of text capabilities at local crisis centers grows, will routing requirements change, and how would the Lifeline Administrator update its routing?

17. Currently, individuals can text “pride” to 988 to be directly connected to an LGBTQI+ trained counselor or “ayuda” to connect with a Spanish-speaking counselor, and veterans and service members who text 988 will be redirected to text 838255 to reach the Veterans Crisis Line. We seek comment on whether any georouting solutions for texts to 988 that are under development contemplate routing for such texts, and whether georouting solutions are needed when a text-to-988 user selects a specialized service.

18. Implementation time frame. We propose that covered text providers comply with the proposed text-to-988 georouting requirements by a uniform implementation deadline of six months from the effective date of final rules. We seek comment on this approach. A six-month time frame is consistent with the Commission's requirement in the 911 context that covered text providers route texts to 911 to the appropriate PSAP within six months. We believe that enabling georouting for texts to 988 should occur swiftly in order to provide improved service to text-to-988 users, and that rapid implementation will minimize confusion for both providers and individuals texting 988. Is six months an adequate amount of time for covered text providers to comply with the proposed requirements? If not, why? Should we adopt different compliance time frames for different kinds of covered text providers, such as nationwide or non-nationwide CMRS providers, or other interconnected text providers, as INCOMPAS suggests? We note that the Commission has previously provided uniform timelines for texting requirements across covered text providers and has declined to provide different timelines for different kinds of covered text providers. Is the situation different with georouting such that we should consider a different timeframe?

19. We ask that commenters identify any work to comply with the proposed requirements and the estimated time to complete that work. Further, we ask that commenters identify any technical, financial, operational, legal, or other factors that may influence the time frame for delivering georouting data with all covered 988 text messages. At this time, the Commission only requires covered text providers to transmit SMS text messages to 988. If the Commission determines that covered text providers must support formats besides SMS, when should covered text providers be required to come into compliance with georouting requirements for new covered 988 text message formats? When do the Lifeline Administrator and/or its vendors anticipate that it could receive and begin using georouting data? Should we make compliance with the proposed requirements conditional on the ability of the Lifeline Administrator and/or its vendors to receive and use georouting data? Should we make the georouting requirements for covered 988 text messages effective six months after the Lifeline Administrator indicates that it can receive and use georouting data with text messages? Alternatively, should we make compliance conditional on the development of resources at the local level to respond to texts to 988?

Legal Authority

20. We tentatively conclude that the Commission has authority under Title III of the Act and the 21st Century Communications and Video Accessibility Act of 2010 (CVAA) to adopt rules requiring covered text providers to deliver georouting data with covered 988 text messages, and we seek comment on this tentative conclusion. As discussed in the Text-to-988 Second Report and Order, 87 FR 398 (Jan. 5, 2022), Title III of the Act provides us a broad mandate to manage spectrum usage in the public interest. We believe Title III of the Act provides us sufficient authority to require CMRS providers to implement georouting for text-to-988 given the scope of the benefits we estimate will accrue as the result of these proposed rules. The CVAA grants us authority to adopt “other regulations . . . as are necessary to achieve reliable, interoperable communication that ensures access by individuals with disabilities to an internet protocol-enabled emergency network.” The Commission has previously concluded that the 988 Lifeline constitutes an emergency network and that text-to-988 service provides access to emergency services for people with disabilities, including those with hearing and speech disabilities. As a result, we believe the CVAA provides us authority to require interconnected text providers to implement georouting for text-to-988 service because such steps improve access for people with disabilities to the 988 network. We seek comment on our analysis and tentative conclusion.

Benefits and Costs of 988 Georouting for Texts to 988

21. In the Third Report and Order (FCC 24-111), published elsewhere in the Federal Register, we estimated benefits of $120 million from georouting wireless calls to the 988 Lifeline. We expect that layering on the capability to georoute texts to 988 and the data requirements entailed will add some incremental costs. We estimate five-year, text-to-988 georouting benefits of nearly $17 million. Wireless carriers have offered no specific, credible estimates of implementation costs. We seek comment on this analysis and encourage commenters to submit more granular data on costs and benefits.

Benefits

22. Reduced Suicide Mortality. Suicide elicits shock, anguish, grief, and guilt among survivors. Imitators often follow suit, creating clusters that compound communities' suffering. While we lack the tools to quantify and monetize this burden on communities, we can acknowledge its vastness. Similarly, we cannot measure the full benefit of suicide prevention. We can, however, estimate what communities might be willing to pay to prevent suicide, more formally the value of reduced mortality risk (VRMR). We tentatively conclude that the VRMR for the ability to send texts to 988 is large and seek comment on this tentative conclusion and analysis.

23. In estimating the benefits for implementing georouting for covered texts to 988, we focus on the benefits that specifically would accrue to youth and young adults that have been exposed to text-to-988 misroutes. We seek comment on this approach. The record in this proceeding indicates that young Americans, who are disproportionately at risk for mental health crises, prefer communicating by text rather than calls. Studies tell us that children, on average, get their first cellphones by 11.6 years of age. By the age of 13, 95% percent of teenagers have access to a smartphone, and 97% of teens 15-17 years old own a smartphone. The American Foundation for Suicide Prevention cites a 2022 study's finding that “over three-quarters of the texts to the Crisis Text Line in one twelve-month period were initiated by individuals under the age of 25.” More precisely, 76% of 988 texts are generated by youth and young adults 24 and younger. Because 988 texts are routed using cellphone numbers, like voice calls to 988, some fraction of texts to 988 are bound to be misrouted. Heavy reliance on texting renders youth the demographic group most vulnerable to 988 text misrouting. The fraction of youth and young adults at risk is large. The Crisis Text Line's comments tell us that “[c]urrently, texts to 988 are routed utilizing cell phone area codes” and “the first six digits of the phone number of people reaching out to Crisis Text Line are accurate to their state location approximately 86% of the time.” From that statistic, we infer that the remaining 14% of texts routed by the first six digits of the originating device are inaccurate to their state location, or geographically mismatched. In 2022, there were nearly 72.5 million youth and young adults 17 and under, of whom 791 committed suicide after that year's July 16 launch of 988. Whether we allocate by number of months (i.e., 6/12 = 0.5) or by total suicides for July-December (i.e., 24,742/49,746 = 0.500008085), half of any age cohort's suicides can be attributed to July-December 2022. We do not know what fraction of youth outreach to 988 would be by text; conservatively, we assume one half. This implies about 55.4 (= 791 * 14%/2) young persons would have been exposed to text-to-988 misroutes. We seek comment on this analysis and encourage commenters to submit additional data on the benefits to implementing georouting for texts to 988.

24. Georouting texts could have reduced suicide mortality. The Crisis Text Line points out that “approximately less than 3% of all 988 contacts resulting (sic) in an emergency services intervention requiring local support,” meaning emergency intervention could have benefited at minimum about 1.66 (= 3% * 791 * 14%/2) youth suicide victims annually whose dispatch might be subject to delays due to misrouting. The comment record suggests that misrouting causes customized, local crisis-intervention services to arrive late or not at all, delaying effective interventions. We examine the consequences for suicide mortality of a minimal, one-minute delay in the effectiveness of texts to 988. Commission staff have previously estimated that a one-minute reduction in emergency response time can reduce mortality by 17%. A 17% reduction in the total number of deaths attributable to suicide among youth 17 and under with possible geographic mismatch would amount to about 0.28 (= 17% * 3% * 791 * 14%/2) fewer annual death due to suicide, a mortality-reduction risk for which Americans would collectively be willing to pay $3.5 (= 0.28 * $12.5) million annually. The present value of a five-year stream of such payments is $16.5 million. We use a VRMR of $12.5 million. The present value of five equal annual payments using OMB Circular A-4's discount rate of 2% is ~$16,500,000. We seek comment on this analysis and additional data we should consider.

25. Other Benefits and Possible Benefits Underestimation. We suspect that our tally underestimates the benefits of georouting texts to 988 for several other reasons and seek comment on our analysis herein. First, along with suicide reduction, it is expected that text-to-988 georouting will reduce suicide attempts and their accompanying medical, lost-work, and lost-quality-of-life costs. We have not estimated these benefits but seek comment on their validity and impact. Second, our reliance on the Crisis Text Line's assertion that the first six digits of the phone number are accurate to the user's state location approximately 86% of the time is likely an overestimation of the accuracy rate of texts reaching the appropriate 988 crisis center. We consider, in particular, that in large, populous states such as California, Florida, New York, and Texas—the four states that are collectively home to more than one-third of U.S. population—there are vast economic, cultural, and language differences within their borders that could hinder effective suicide intervention if the text is not routed to the 988 crisis center serving the location of the text user. Even though we rely on the Crisis Text Line's estimation, our analysis likely overstates the percentage of texts that are currently routed to the appropriate 988 crisis center. As a result, the benefits of our proposed intervention are likely underestimated. We seek comment on this assumption and our rationale.

26. Another reason our tally may underestimate the benefits of georouting texts to 988 is that youths 17 and under are the age cohort losing the greatest number of productive years of life to suicide. In 2022 alone, the 1,582 suicides among youth 17 and under cost the U.S. 78,866 potential years of life before age 65, the typical retirement age. Our age-agnostic valuation of reduced mortality may not fully capture this loss. In addition, 24% of texts to 988 are generated by adults; therefore, by excluding adults we overlook the prevention a sizable fraction of the 47,891 suicides among those 18 and older, for whom we proffer no estimated benefits of mortality reduction. Further, we do include morbidity and property costs associated with unsuccessful suicide attempts. Finally, we have not reckoned at all with the vast, unquantifiable benefits of sparing victims' families, friends, and communities the emotional devastation of losing children to suicide. We seek comment on the magnitude of any benefits that we may have overlooked or underestimated. More generally, we seek comment on our benefits estimates and the methodology underlying them. In particular, we seek comment on the assumptions used to identify and estimate the number of text-to-988 misroutes among youth 17 and under. We seek comment on the number of 988 misroutes occurring among adults 18 and older. We also seek comment on the extent of text-to-988 misroutes that may be occurring among LGBTQI+ individuals, racial and ethnic minorities, veterans, and other communities at disproportionately greater risk of suicide.

Costs

27. AT&T, the Crisis Text Line, and CTIA warn of significant text-to-988 implementation challenges, both on the processing and receiving ends of 988 texts, and urge the Commission to either delay or altogether refrain from requiring text-to-988 capability. INCOMPAS advocates a four-year text-to-988 implementation timeline for non-nationwide wireless providers. According to Intrado Life & Safety, on the other hand, “developing a text-to-988 solution for both the current 988 Lifeline network and state ESInets tells us the problem is easily addressable from a technical standpoint. Implementing text-to-988 is easily achievable through either the current 988 Lifeline or to a state's ESInet by applying the current routing infrastructure for text-to-911 and changing to support the digits `988' in the Text Control Centers that Intrado Life & Safety and Comtech maintain for text-to-911.” Intrado Life & Safety continues, “[p]roviders should not require any other changes for implementation. The only credible barrier to text-to-988 is that the 988 Lifeline network is likely not currently capable of georouting text-to-988 calls, but this potential barrier disappears if providers leverage the states' existing NG911 infrastructure.” Given competing claims regarding implementation costs, we seek comment on credible, specific estimates of implementation costs and how such costs may vary by type or size of provider, network technology, or along any other relevant dimension. What are the key costs of setting up geolocation for covered 988 texts? What are the costs for covered text providers to have the capability to provide georouting data with covered 988 text messages? What are the costs for covered text providers to provide georouting data with covered 988 text messages, when available, to the 988 Lifeline? What aspects of implementation of georouting for 988 voice calls will transfer to geolocation for covered 988 texts at minimal additional cost? We seek comment on the cost to providers of directly implementing our proposed requirements, or alternatively of purchasing the required services from a third-party. What costs are associated with Text Control Centers, if such a solution is chosen by covered text providers? We also seek detailed descriptions of the technical barriers to implementing georouting for text-to-988 and specific, itemized estimates of the costs of overcoming those barriers, if possible. We seek detailed descriptions of the nature and costs of any proposed technically feasible solutions to implement text-to-988 and their accompanying timelines.

Other Efforts To Promote Digital Equity and Inclusion

28. Digital Equity. The Commission, as part of its continuing effort to advance digital equity for all, including people of color, persons with disabilities, persons who live in rural or Tribal areas, and others who have been historically underserved, marginalized, and adversely affected by persistent poverty and inequality, invites comments on any equity-related considerations and benefits (if any) that may be associated with the proposals and issues discussed herein. Specifically, we seek comment on how our proposals may promote or inhibit advances in diversity, equity, inclusion, and accessibility, as well as the scope of the Commission's relevant legal authority.

Initial Regulatory Flexibility Analysis

29. As required by the Regulatory Flexibility Act of 1980, as amended (RFA), the Commission has prepared this Initial Regulatory Flexibility Analysis (IRFA) of the possible significant economic impact on small entities by the policies and rules proposed in the Implementation of the National Suicide Hotline Improvement Act of 2018, Third Further Notice of Proposed Rulemaking (FNPRM). Written public comments are requested on the IRFA. Comments must be identified as responses to the IRFA and must be filed by the deadlines for comments in the FNPRM. The Commission will send a copy of the FNPRM, including the IRFA, to the Chief Counsel for Advocacy of the Small Business Administration (SBA). In addition, the FNPRM and IRFA (or summaries thereof) will be published in the Federal Register.

Need for, and Objectives of, the Proposed Rules

30. In the FNPRM, we propose to require 988 covered text providers to support georouting in order to ensure that the 988 Lifeline may route covered 988 text messages to the appropriate local crisis center and enhance the support and resources available to text users in crisis. Currently, covered 988 text messages are routed to local crisis centers using information conveyed by the number assigned to the device, such as the area code, which in many cases will not reflect the current location of the device user. Mental health and crisis counseling experts have opined that connecting callers in crisis with local crisis centers is important to connect life-saving services to those in need of public health and safety resources and enable them to speak with local counselors who may be more familiar with cultural issues or community stressors in the caller's area. To better connect 988 text users with local crisis resources, we propose to adopt and seek comment on a two-part requirement for covered text providers to: (1) have the capability to provide georouting data with covered 988 text messages to the Lifeline Administrator; and (2) provide georouting data, when available, with covered 988 text messages to the Lifeline Administrator. Covered text providers would be required to comply with this requirement six months from the effective date of final rules.

Legal Basis

31. The proposed action is authorized under §§ 1, 2, 4, 201, 218, 251(e), 301, 303, 307, 309(a), 316, 332, and 615c of the Communications Act of 1934, as amended, 47 U.S.C. 151, 152, 154, 201, 218, 251(e), 301, 303, 307, 309(a), 316, 332, and 615c.

Description and Estimate of the Number of Small Entities to Which the Proposed Rules Will Apply

32. The RFA directs agencies to provide a description of, and where feasible, an estimate of the number of small entities that may be affected by the proposed rules and by the rule revisions on which the Notice seeks comment, if adopted. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

33. Small Businesses, Small Organizations, Small Governmental Jurisdictions. Our actions, over time, may affect small entities that are not easily categorized at present. We therefore describe, at the outset, three broad groups of small entities that could be directly affected herein. First, while there are industry specific size standards for small businesses that are used in the regulatory flexibility analysis, according to data from the SBA Office of Advocacy, in general a small business is an independent business having fewer than 500 employees. These types of small businesses represent 99.9% of all businesses in the United States, which translates to 33.2 million businesses.

34. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

35. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments (independent school districts) with enrollment populations of less than 50,000. Accordingly, based on the 2022 U.S. Census of Governments data, we estimate that at least 48,724 entities fall into the category of “small governmental jurisdictions.”

36. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

37. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

38. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were fixed local exchange service providers. Of these providers, the Commission estimates that 4,146 providers have 1,500 or fewer employees. Consequently, using the SBA's small business size standard, most of these providers can be considered small entities.

39. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 1,212 providers that reported they were incumbent local exchange service providers. Of these providers, the Commission estimates that 916 providers have 1,500 or fewer employees. Consequently, using the SBA's small business size standard, the Commission estimates that the majority of incumbent local exchange carriers can be considered small entities.

40. Competitive Local Exchange Carriers (CLECs). Neither the Commission nor the SBA has developed a size standard for small businesses specifically applicable to local exchange services. Providers of these services include several types of competitive local exchange service providers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 3,378 providers that reported they were competitive local service providers. Of these providers, the Commission estimates that 3,230 providers have 1,500 or fewer employees. Consequently, using the SBA's small business size standard, most of these providers can be considered small entities.

41. Interexchange Carriers (IXCs). Neither the Commission nor the SBA have developed a small business size standard specifically for Interexchange Carriers. Wired Telecommunications Carriers is the closest industry with a SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 127 providers that reported they were engaged in the provision of interexchange services. Of these providers, the Commission estimates that 109 providers have 1,500 or fewer employees. Consequently, using the SBA's small business size standard, the Commission estimates that the majority of providers in this industry can be considered small entities.

42. Local Resellers. Neither the Commission nor the SBA have developed a small business size standard specifically for Local Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 207 providers that reported they were engaged in the provision of local resale services. Of these providers, the Commission estimates that 202 providers have 1,500 or fewer employees. Consequently, using the SBA's small business size standard, most of these providers can be considered small entities.

43. Toll Resellers. Neither the Commission nor the SBA have developed a small business size standard specifically for Toll Resellers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 457 providers that reported they were engaged in the provision of toll services. Of these providers, the Commission estimates that 438 providers have 1,500 or fewer employees. Consequently, using the SBA's small business size standard, most of these providers can be considered small entities.

44. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with a SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2022 Universal Service Monitoring Report, as of December 31, 2021, there were 90 providers that reported they were engaged in the provision of other toll services. Of these providers, the Commission estimates that 87 providers have 1,500 or fewer employees. Consequently, using the SBA's small business size standard, most of these providers can be considered small entities.

45. Prepaid Calling Card Providers. Neither the Commission nor the SBA has developed a small business size standard specifically for prepaid calling card providers. Telecommunications Resellers is the closest industry with a SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2022 Universal Service Monitoring Report, as of December 31, 2021, there were 62 providers that reported they were engaged in the provision of prepaid card services. Of these providers, the Commission estimates that 61 providers have 1,500 or fewer employees. Consequently, using the SBA's small business size standard, most of these providers can be considered small entities.

46. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

47. Cable and Other Subscription Programming. The U.S. Census Bureau defines this industry as establishments primarily engaged in operating studios and facilities for the broadcasting of programs on a subscription or fee basis. The broadcast programming is typically narrowcast in nature (e.g., limited format, such as news, sports, education, or youth-oriented). These establishments produce programming in their own facilities or acquire programming from external sources. The programming material is usually delivered to a third party, such as cable systems or direct-to-home satellite systems, for transmission to viewers. The SBA small business size standard for this industry classifies firms with annual receipts less than $47 million as small. Based on U.S. Census Bureau data for 2017, 378 firms operated in this industry during that year. Of that number, 149 firms operated with revenue of less than $25 million a year and 44 firms operated with revenue of $25 million or more. Based on this data, the Commission estimates that a majority of firms in this industry are small.

48. Cable Companies and Systems (Rate Regulation). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

49. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

50. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

51. Radio and Television Broadcasting and Wireless Communications Equipment Manufacturing. This industry comprises establishments primarily engaged in manufacturing radio and television broadcast and wireless communications equipment. Examples of products made by these establishments are: transmitting and receiving antennas, cable television equipment, GPS equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

52. Semiconductor and Related Device Manufacturing. This industry comprises establishments primarily engaged in manufacturing semiconductors and related solid state devices. Examples of products made by these establishments are integrated circuits, memory chips, microprocessors, diodes, transistors, solar cells and other optoelectronic devices. The SBA small business size standard for this industry classifies entities having 1,250 or fewer employees as small. U.S. Census Bureau data for 2017 show that there were 729 firms in this industry that operated for the entire year. Of this total, 673 firms operated with fewer than 250 employees. Thus under the SBA size standard, the majority of firms in this industry can be considered small.

53. Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $47 million or less as small. U.S. Census Bureau data for 2017 indicate that 7,842 firms in this industry operated for the entire year. Of this number 7,226 firms had revenue of less than $25 million. Based on this data, we conclude that a majority of firms in this industry are small.

54. Internet Service Providers (Non-Broadband). Internet access service providers using client-supplied telecommunications connections (e.g., dial-up ISPs) as well as VoIP service providers using client-supplied telecommunications connections fall in the industry classification of All Other Telecommunications. The SBA small business size standard for this industry classifies firms with annual receipts of $40 million or less as small. For this industry, U.S. Census Bureau data for 2017 show that there were 1,079 firms in this industry that operated for the entire year. Of those firms, 1,039 had revenue of less than $25 million. Consequently, under the SBA size standard a majority of firms in this industry can be considered small.

55. Wired Broadband Internet Access Service Providers (Wired ISPs). Providers of wired broadband internet access service include various types of providers except dial-up internet access providers. Wireline service that terminates at an end user location or mobile device and enables the end user to receive information from and/or send information to the internet at information transfer rates exceeding 200 kilobits per second (kbps) in at least one direction is classified as a broadband connection under the Commission's rules. Wired broadband internet services fall in the Wired Telecommunications Carriers industry. The SBA small business size standard for this industry classifies firms having 1,500 or fewer employees as small. U.S. Census Bureau data for 2017 show that there were 3,054 firms that operated in this industry for the entire year. Of this number, 2,964 firms operated with fewer than 250 employees.

56. Additionally, according to Commission data on internet access services as of June 30, 2019, nationwide there were approximately 2,747 providers of connections over 200 kbps in at least one direction using various wireline technologies. The Commission does not collect data on the number of employees for providers of these services, therefore, at this time we are not able to estimate the number of providers that would qualify as small under the SBA's small business size standard. However, in light of the general data on fixed technology service providers in the Commission's 2022 Communications Marketplace Report, we believe that the majority of wireline internet access service providers can be considered small entities.

57. Wireless Broadband Internet Access Service Providers (Wireless ISPs or WISPs). Providers of wireless broadband internet access service include fixed and mobile wireless providers. The Commission defines a WISP as “[a] company that provides end-users with wireless access to the internet[.]” Wireless service that terminates at an end user location or mobile device and enables the end user to receive information from and/or send information to the internet at information transfer rates exceeding 200 kilobits per second (kbps) in at least one direction is classified as a broadband connection under the Commission's rules. Neither the SBA nor the Commission have developed a size standard specifically applicable to Wireless Broadband internet Access Service Providers. The closest applicable industry with an SBA small business size standard is Wireless Telecommunications Carriers (except Satellite). The SBA size standard for this industry classifies a business as small if it has 1,500 or fewer employees. U.S. Census Bureau data for 2017 show that there were 2,893 firms in this industry that operated for the entire year. Of that number, 2,837 firms employed fewer than 250 employees.

58. Additionally, according to Commission data on internet access services as of June 30, 2019, nationwide there were approximately 1,237 fixed wireless and 70 mobile wireless providers of connections over 200 kbps in at least one direction. The Commission does not collect data on the number of employees for providers of these services, therefore, at this time we are not able to estimate the number of providers that would qualify as small under the SBA's small business size standard. However, based on data in the Commission's 2022 Communications Marketplace Report on the small number of large mobile wireless nationwide and regional facilities-based providers, the dozens of small regional facilities-based providers and the number of wireless mobile virtual network providers in general, as well as on terrestrial fixed wireless broadband providers in general, we believe that the majority of wireless internet access service providers can be considered small entities.

59. All Other Information Services. This industry comprises establishments primarily engaged in providing other information services (except news syndicates, libraries, archives, internet publishing and broadcasting, and Web search portals). The SBA small business size standard for this industry classifies firms with annual receipts of $47 million or less as small. U.S. Census Bureau data for 2017 show that there were 704 firms in this industry that operated for the entire year. Of those firms, 556 had revenue of less than $25 million. Consequently, we estimate that the majority of firms in this industry are small entities.

Description of Projected Reporting, Recordkeeping, and Other Compliance Requirements for Small Entities

60. The FNPRM proposes and seeks comment on implementing new georouting rules for covered 988 text messages, that if adopted, may impose new or modified compliance obligations on small entities. In particular, we propose to require covered text providers to have the capability to provide and to actually provide georouting data to the 988 Lifeline with covered texts, when such information is available. We also propose that covered text providers be subject to georouting requirements to the same extent that they are currently required to send covered 988 texts to the 988 Lifeline. Covered text providers would be required to comply with this requirement six months from the effective date of final rules. In addition, we tentatively conclude that, at a minimum, Commercial Mobile Radio Service (CMRS) providers must support georouting for Short Message Service (SMS) text formats to the Lifeline.

61. The record in the FNPRM indicates small providers may face various barriers to compliance, however it does not currently contain detailed information on the costs for covered text providers to implement georouting for covered 988 text messages. Therefore, at this time, the Commission is not in a position to determine whether implementation of georouting for covered 988 text messages would result in significant costs for covered text providers. To help the Commission more fully evaluate the cost of compliance, we seek additional detailed information on various cost issues implicated by our proposed rules. Specifically, we have requested information on technological challenges and the costs for covered text providers to implement georouting for covered 988 text messages. We expect the information that we receive in response to our requested cost inquiries will help the Commission identify and evaluate compliance costs and burdens for small entities that may result from the proposals and inquiries we make in the FNPRM to implement georouting for covered 988 text messages.

Steps Taken To Minimize the Significant Economic Impact on Small Entities, and Significant Alternatives Considered

62. The RFA requires an agency to describe any significant alternatives that could minimize impacts to small entities that it has considered in reaching its proposed approach, which may include the following four alternatives (among others): (1) the establishment of differing compliance or reporting requirements or timetables that take into account the resources available to small entities; (2) the clarification, consolidation, or simplification of compliance or reporting requirements under the rule for such small entities; (3) the use of performance, rather than design, standards; and (4) an exemption from coverage of the rule, or any part thereof, for such small entities.

63. In the FNPRM, the Commission seeks comment from all entities, including small entities, regarding the impact of the proposed rules on small entities. The Commission seeks comment on the impact, cost or otherwise, that requiring georouting for text-to-988 will impose on regional and rural carriers and small businesses. The Commission also seeks comment on whether to limit the scope of the georouting rule to one or more specific text formats, such as SMS, or to certain types of covered text providers, such as CMRS providers or covered text providers that have access to cellular networks. We will also consider whether the rule should require covered text providers provide georouting data with covered 988 texts “when available” as proposed, or instead provide georouting data with texts to 988 “when technically feasible.” Further, the Commission asks whether to extend compliance time frames for different kinds of covered text providers, such as nationwide or non-nationwide CMRS providers or other kinds of interconnected text providers.

Federal Rules That May Duplicate, Overlap, or Conflict With the Proposed Rules

64. None.

List of Subjects in 47 CFR Part 52

Communications common carriers, Telecommunications, Telephone

Federal Communications Commission.
Marlene Dortch,
Secretary.

Proposed Rules

For the reasons discussed in the preamble, the Federal Communications Commission proposes to amend 47 CFR part 52 as follows:

PART 52—NUMBERING

1. The authority citation for part 52 continues to read as follows:

Authority: 47 U.S.C. 151, 152, 153, 154, 155, 201-205, 207-209, 218, 225-227, 251-252, 271, 303, 332, unless otherwise noted.

2. Amend § 52.201 by:

a. Revising paragraph (b);

b. Adding in alphabetical order definitions for “Commercial mobile radio service (CMRS),” “Georouting data,” and “Lifeline Administrator” in paragraph (c); and

c. Adding paragraph (d).

The revisions and additions read as follows:

§ 52.201 Texting to the National Suicide Prevention and Mental Health Crisis Hotline.

* * * * *

(b) Access to SMS networks for 988 text messages. To the extent that Commercial Mobile Radio Service (CMRS) providers offer Short Message Service (SMS), they shall allow access by any other covered text provider to the capabilities necessary for transmission of 988 text messages originating on such other covered text providers' application services.

(c) * * *

Commercial mobile radio service (CMRS) means a mobile service that is:

(i)(A) Provided for profit, i.e., with the intent of receiving compensation or monetary gain;

(B) An interconnected service; and

(C) Available to the public, or to such classes of eligible users as to be effectively available to a substantial portion of the public; or

(ii) The functional equivalent of such a mobile service described in paragraph (i)(A) of this definition.

(iii) A variety of factors may be evaluated to make a determination whether the mobile service in question is the functional equivalent of a commercial mobile radio service, including: Consumer demand for the service to determine whether the service is closely substitutable for a commercial mobile radio service; whether changes in price for the service under examination, or for the comparable commercial mobile radio service, would prompt customers to change from one service to the other; and market research information identifying the targeted market for the service under review.

(iv) Unlicensed radio frequency devices under part 15 of this chapter are excluded from this definition of Commercial mobile radio service.

* * * * *

Georouting data means location data generated from cell-based location technology that is aggregated to a level that will not identify the location of the cell site or base station receiving the 988 call or text or otherwise identify the precise location of the handset.

Lifeline Administrator is the entity that controls the 988 call routing platform pursuant to contract with the Substance Abuse Mental Health Services Administration.

* * * * *

(d) Georouting. By [DATE SIX MONTHS AFTER DATE OF PUBLICATION OF THE FINAL RULE], all covered text providers must:

(1) Have the capability to provide georouting data with covered 988 text messages to the Lifeline Administrator in a format that is compatible with the Lifeline's routing platform, to allow routing of the covered 988 text message by the Lifeline Administrator to the appropriate crisis center based on the geographic area where the handset is located at the time the covered 988 text is initiated.

(2) Provide georouting data, when available, with covered 988 text messages to the Lifeline Administrator sufficient to allow routing of the covered 988 text message by the Lifeline Administrator to the appropriate crisis center based on the geographic area where the handset is located at the time the covered 988 text is initiated.

[FR Doc. 2024-26795 Filed 11-19-24; 8:45 am]

BILLING CODE 6712-01-P